DEPARTMENT OF TRANSPORTATION

Surface Transportation Board

[Docket No. FD 35946]

Flatiron Rail Inc.—Lease and Operation Exemption—Yreka Western Railroad Company

Flatiron Rail Inc. (FRINC), a noncarrier, has filed a verified notice of exemption under 49 CFR 1150.31 to acquire by lease from Yreka Western Railroad Company (YW) and to operate 10.2 miles of railroad between mileposts 0.0 near Yreka and 10.2 near Montaque, in Siskiyou County, Cal.

The transaction may be consummated on or after August 30, 2015, the effective date of the exemption (30 days after the exemption was filed).

FRINC certifies that, as a result of this transaction, its projected revenues will not result in the creation of a Class II or Class I rail carrier and will not exceed $5 million.

FRINC states that on July 21, 2015, it entered into a memorandum of understanding (memorandum) with YW for FRINC to lease and operate the railroad with an option to purchase the rail line. FRINC certifies that the memorandum contains no interchange commitment between the parties.

If the verified notice contains false or misleading information, the exemption is void ab initio. Petitions to revoke the exemption under 49 U.S.C. 10502(d) may be filed at any time. The filing of a petition to revoke will not automatically stay the effectiveness of the exemption. Petitions to stay must be filed no later than August 21, 2015 (at least 7 days before the exemption becomes effective).

An original and 10 copies of all pleadings, referring to Docket No. FD 35946, must be filed with the Surface Transportation Board, 395 E Street SW., Washington, DC 20423-0001. In addition, a copy must be served on Fritz R. Kahn, 1919 M St. NW., 7th Floor, Washington, DC 20036.

Board decisions and notices are available on our Web site at WWW.STB.DOT.GOV.

Decided: August 11, 2015.
By the Board, Rachel D. Campbell, Director, Office of Proceedings.
Kenyatta Clay,
Clearance Clerk.

[FR Doc. 2015-20078 Filed 8-13-15; 8:45 am]

BILLING CODE 4915-01-P